SMALL BUSINESS ADMINISTRATION

[Disaster Declaration #13920]

Pennsylvania Disaster #PA-00066 Declaration of Economic Injury

AGENCY: U.S. Small Business Administration.

ACTION: Notice.

SUMMARY: This is a notice of an Economic Injury Disaster Loan (EIDL) declaration for the Commonwealth of Pennsylvania, dated 04/02/2014.

Incident: Severe Winter Storms.

Incident Period: 02/03/2014 through 02/28/2014.

Effective Date: 04/02/2014.

EIDL Loan Application Deadline Date: 01/02/2015.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: Notice is hereby given that as a result of the Administrator's EIDL declaration, applications for economic injury disaster loans may be filed at the address listed above or other locally announced locations.

The following areas have been determined to be adversely affected by the disaster:

Primary Counties: Chester; Montgomery.

Contiguous Counties:

Pennsylvania: Berks; Bucks; Delaware; Lancaster; Lehigh; Philadelphia.

Delaware: New Castle.

Maryland: Cecil.

The Interest Rates are:

| Percent
Businesses And Small Agricultural Cooperatives Without Credit Available Elsewhere | 4.000
Non-Profit Organizations Without Credit Available Elsewhere | 2.625

The number assigned to this disaster for economic injury is 139200.

The States which received an EIDL Declaration # are Pennsylvania; Delaware; Maryland.

(Catalog of Federal Domestic Assistance Number 59002)

Dated: April 2, 2014.
Marianne O'Brien Markowitz,
Acting Administrator.

[FR Doc. 2014-08087 Filed 4-10-14; 8:45 am]

BILLING CODE 8025-01-P